ENVIRONMENTAL PROTECTION AGENCY

[EPA-HQ-OPP-2008-0459; FRL-8370-5]

Electronic Submission of Certain Pesticide Applications and Data; Availability of Guidance Website

AGENCY: Environmental Protection Agency (EPA).

ACTION: Notice of Availability.

SUMMARY: As of July 15, 2008, the Office of Pesticide Programs (OPP) will begin accepting certain types of pesticide applications and associated data electronically. The types of applications that will be accepted electronically are Section 3 applications and amendments, Experimental Use Permits, Tolerance Petitions, and Supplemental Distributor Applications. To assist pesticide registrants to properly format their electronic submissions, OPP has established a new web site. This Notice announces the availability of that web site. This site can be accessed at http://www.epa.gov/pesticides/regulating/registering/submissions/index.htm.

FOR FURTHER INFORMATION CONTACT: John Jamula, Information Technology and Resources Management Division, Office of Pesticide Programs, Environmental Protection Agency, 1200 Pennsylvania Ave., NW., Washington, DC 20460-0001; telephone number: (703) 305-6426; fax number: (703) 305-7670; e-mail address: jamula.john@epa.gov. Or you may contact the E-submission help desk Toll Free: 1-866-612-8664. Voice-mail can be left at any time. E-mail Address: OPPeSubmissionHelpdesk@epa.gov.

SUPPLEMENTARY INFORMATION:

I. General Information

A. Does this Action Apply to Me?

You may be potentially affected by this action if you produce pesticides. Potentially affected entities may include, but are not limited to: Pesticide Registrants.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for this action under docket identification (ID) number EPA-HQ-OPP-2008-0459. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

What Action is the Agency Taking?

As of July 15, the Office of Pesticide Programs (OPP) will begin accepting certain types of pesticide applications and associated data electronically. The types of applications that will be accepted electronically are Section 3 applications and amendments, Experimental Use Permits, Tolerance Petitions, and Supplemental Distributor Applications. To assist pesticide registrants to properly format their electronic submissions, OPP has established a new web site. This notice announces the establishment of a new Internet website that contains guidance that will be useful to pesticide companies planning to submit pesticide applications and data electronically. This site can be accessed at http://www.epa.gov/pesticides/regulating/registering/submissions/index.htm.

List of Subjects

Dated: June 16, 2008.
Oscar Morales
Director, Information Technology and Resources Management Division, Office of Pesticide Programs.

[FR Doc. E8-14612 Filed 6-26-08; 8:45 am]

BILLING CODE 6560-50-S